DEPARTMENT OF TRANSPORTATION

Federal Motor Carrier Safety Administration

[Docket No. FMCSA-2007-26971]

Notice of Request for Comments on Renewal of a Currently Approved Information Collection: Medical Qualification Requirements

AGENCY: Federal Motor Carrier Safety Administration (FMCSA), DOT.

ACTION: Notice; request for information.

SUMMARY: In accordance with the Paperwork Reduction Act of 1995, FMCSA announces its plan to submit the Information Collection Request (ICR) described below to the Office of Management and Budget (OMB) for review and approval. This information collection pertains to the requirements set forth in 49 CFR parts 391 and 398 for the following activities: (1) A medical examination form and certificate to be completed by a licensed medical examiner; (2) The submission of an application to FMCSA for the Agency to resolve conflicts of medical evaluations between medical examiners; (3) A driver qualification (DQ) file for: (a) Motor carriers to include the medical certificate; (b) motor carriers of migrant workers to include a doctor's certificate for every driver employed or used by them; and (c) motor carriers to include a Skill Performance Evaluation (SPE) certificate issued to a driver with a limb disability; and (4) Information collected from carriers, drivers and interested parties used in Agency determinations for granting exemptions from the vision and diabetes requirements in the Federal Motor Carrier Safety Regulations (FMCSRs). The Agency published a Federal Register notice allowing for a 60-day comment period on the ICR in October 2006 (71 FR 61822, Oct. 19, 2006). The Agency did not receive any comments in response to this notice.

DATES: Please send your comments by April 5, 2007. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Dr. Mary D. Gunnels, Chief, Physical Qualifications Division, (202) 366-4001, maggi.gunnels@dot.gov, FMCSA, Department of Transportation, 400 Seventh Street, SW., Washington, DC 20590-0001. Office hours are from 8 a.m. to 5 p.m., ET, Monday through Friday, except Federal holidays.

SUPPLEMENTARY INFORMATION: Title: Medical Qualification Requirements.

OMB Control Number: 2126-0006.

Type of Request: Revision of a currently-approved information collection.

Respondents: Medical Examiners, Medical Specialists, Physicians, Licensed Doctors of Medicine, Doctors of Osteopathy, Physician Assistants, Advanced Practice Nurses, Doctors of Chiropractic, motor carriers, and CMV drivers.

Estimated Number of Respondents: 7,000,000.

Estimated Time per Response: The following records are included in the IC pertaining to the Medical Qualifications Requirements: (1) The Medical Examination Form and Certificate—Twenty minutes for a medical examiner to complete, document, and file the medical examination report; One minute for the medical examiner to complete the medical examiner's certificate and furnish one copy to the person who was examined and one copy to the motor carrier who employs him or her; One minute for carriers to file the medical examiner's certificate in the DQ file; (2) Data Resolving Medical Conflicts—One hour for the Safety Director of a motor carrier company to prepare paperwork for each case and an additional 8 hours to attend any hearings for resolution of medical conflict; (3) The SPE Certificate—Fifteen minutes for a driver to complete an application for an initial SPE certificate; Two minutes to complete an application for a renewal of a SPE certificate; One minute for carriers to copy and file the SPE certificate application in the DQ file; (4) Vision Exemptions—Sixty minutes for a driver to complete an application for a vision exemption with required supporting documents from carriers and interested parties; (5) Diabetes Exemptions—Sixty minutes for a driver to complete a diabetes exemption with required documentation; and (6) The Doctor's Certificate for Motor Carriers of Migrant Workers—One minute for a doctor of medicine or osteopathy to complete a doctor's certificate for drivers of motor carriers of migrant workers; and for carriers to place the certificate in the DQ file for every driver employed or used by them.

Expiration Date: March 31, 2007.

Frequency of Response: Biennially, and on occasion, more frequently for drivers who are not eligible to receive a 2-year certificate. There are 7,000,000 drivers subject to the FMCSA medical standards. A medical certificate usually is valid for 2 years after the date of examination. However, drivers with certain medical conditions must be certified more frequently than every two years, so halving the number of drivers underestimates the total number of certifications that are conducted annually. In addition, some employers require newly hired drivers to obtain a new medical certification even if the driver's current certificate is still valid. As a result of these exceptions to the biennial medical certification schedule, the Agency estimates that the actual number of medical certifications conducted annually is 20 percent greater than would be the case if all drivers were examined biennially. Biennial examinations would result in approximately 3,500,000 medical examinations per year, but the Agency estimates that approximately 4,200,000 examinations are conducted annually.

Estimated Total Annual Burden: 1,541,534 hours [1,540,000 hours for medical examination form and certificate (4,200,000 certificates × 22 minutes/60 minutes per hour + 11 hours for resolution of medical conflicts (3 cases × 1 hour each to prepare, plus 8 hours for one hearing) + 192 hours for SPE certificates (2,100 certificates × 1 minute/60 minutes for motor carriers + 1,700 renewals × 2 minutes/60 minutes + 400 new × 15 minutes/60 minutes) + 727 hours for vision exemptions (1572 total applicants × .27 or 27 % + 268 new vision exemptions + 35 hours for motor carriers motor carriers to retain a copy in the driver's DQ file) + 600 hours for diabetes exemptions (600 applications × 1 hour) + 3.5 rounded to 4 hours for doctors certificate for drivers of migrant workers (100 certificates × 2 minutes/60 minutes) = 1,541,534 hours].

Background

Title 49 U.S.C. 31136 requires the Secretary of Transportation (Secretary) to prescribe regulations to ensure that the physical qualifications of commercial motor vehicle (CMV) operators are adequate to enable them to operate CMVs safely. In addition, 49 U.S.C. 31502 authorizes the Secretary to prescribe requirements for qualifications of employees of a motor carrier when needed to promote safety of operation. Information about an individual's physical condition must be collected in order for the FMCSA, States and motor carriers to verify that the individual meets the physical qualification standards for CMV drivers set forth in 49 CFR 391.41; and for the FMCSA to determine whether the individual is physically able to operate a CMV safely. This information collection is comprised of the components listed in the summary above.

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information.

Issued on: February 26, 2007.
Rose A. McMurray,
Assistant Administrator, Chief Safety Officer.

[FR Doc. E7-3803 Filed 3-5-07; 8:45 am]

BILLING CODE 4910-EX-P